DEPARTMENT OF THE INTERIOR

Bureau of Land Management

[ID-085-03-1430-AA]

Implementation of Off Highway Vehicle (OHV) Management, Upper Columbia-Salmon Clearwater District, ID

AGENCY: Bureau of Land Management, Upper Columbia-Salmon Clearwater District, Idaho, Interior

ACTION: Implementation of Off Highway Vehicle (OHV) management for the Salmon Field Office, Upper Columbia-Salmon Clearwater District, BLM.

SUMMARY: In a Federal Register notice dated February 25, 2000, the Salmon Field Office notified the public of the BLM's intent to amend the Lemhi Resource Management Plan (RMP) (BLM 1987) to address several management concerns, including the need for Aadditional guidance for management of resources, values, and uses on public lands within the (Lewis and Clark National Historic) Trail corridor and its surrounding area, and for other areas where visitor use is increasing substantially.” This concern has been addressed through amended off-highway vehicle use (OHV) designations for the approximately 594,837-acre Salmon Field Office area, as well as other management decisions. The Lemhi RMP amendment was approved by the Idaho State Director on August 29, 2001. As stated in 43 CFR 8342.2(b), that approval constituted the formal designation of off-highway vehicle use areas for the Salmon Field Office area. This Notice is published in compliance with 43 CFR 8364.1 Closure and restriction orders. Additional efforts to inform the public of the changes in OHV designations will be made during the next six to twelve months as the Salmon Field Office holds informational meetings, prepares and distributes a Travel Map, installs signs identifying the restricted or closed areas, and contacts public land visitors via the media and in the field.

Changes in OHV designations were primarily made to address existing or potential future impacts to cultural, historic, and scenic resources; fisheries and wildlife habitat; undeveloped and non-motorized recreational opportunities; and native vegetation in the Salmon Field Office area. These designations were developed based on public and tribal input and an environmental analysis of various management alternatives. This closure and restriction order supersedes the OHV designation and closure notices published in the Federal Register by the Salmon District Office on September 5, 1986; September 29, 1987; and April 24, 1989.

FOR FURTHER INFORMATION CONTACT: For further information about the amended OHV designations or to obtain a copy of the RMP amendment (which includes maps of the OHV designations), please contact Michael Liner, Outdoor Recreation Planner, by phone at (208) 756-5466, by e-mail at Michael_Liner@blm.gov, or by mail at the Bureau of Land Management, 50 Highway 93 South, Salmon, Idaho 83467.

SUPPLEMENTARY INFORMATION: The majority (about 96.5%) of public lands administered by the Salmon Field Office now have an OHV designation of “limited,” which means that motorized vehicle travel within specified areas and/or on designated routes, roads, vehicle ways, or trails is subject to restrictions. The remaining public lands (approximately 3.5%) are designated “closed”; i.e., motorized vehicle travel is prohibited in those areas.

Exceptions for Off-road Vehicle Use—Excluding the Eighteenmile Wilderness Study Area (WSA), located about 15 miles southeast of Leadore, Idaho (see point “(1)” of the Limited and Closed Designation Areas in the following two paragraphs), temporary exceptions to the OHV limitations and closures for the Salmon Field Office area may be authorized for any military, fire, emergency, or law enforcement vehicle while it is being used for emergency purposes, any vehicle in official use, and any vehicle whose use is expressly authorized in writing by the authorized officer.

The following additional exceptions for off-road travel may apply in “Limited” Designation Areas; vehicle use may be allowed:

(a) Within 300 feet of existing roads, vehicle ways, or trails for direct access to campsites, to retrieve downed big game, or to harvest forest products;

(b) Immediately adjacent to existing roads, vehicle ways, and trails for purposes such as parking, turning around, or passing another vehicle;

(c) If the vehicle weighs 1,500 pounds or less gross vehicle weight and is traveling on at least six inches of continuous snow cover; and

(d) Snowmobiles on groomed trails only.

These exceptions (a) through (d) are referenced in the “Limited Designation Areas” section below when they pertain to a given limitation.

“Closed” Designation Areas—The areas designated “closed” to OHV use are as follows. (1) The portion of the Eighteenmile WSA recommended to Congress as suitable for wilderness designation (14,796 acres) is closed to OHV use to maintain the area's suitability for wilderness designation. Temporary exceptions for OHV use are allowed in emergencies and search and rescue operations, for official purposes by the BLM and other Federal, State, and local agencies, and to build or maintain structures or installations, as provided for in the Interim Management Policy and Guidelines for Lands Under Wilderness Review (BLM 1995). (2) The 236-acre Trail Creek Area of Critical Environmental Concern (ACEC), located approximately 12 miles west of Lemhi, Idaho, is closed to OHV use to preserve the unroaded old growth forest and riparian habitat and provide additional protection to high quality elk habitat. (3) About 1,200 acres on the hillside above the Chief Tendoy Cemetery (located about 20 miles southeast of Salmon, Idaho) are closed to OHV use for safety reasons (the area is extremely steep and hazardous). (4) Approximately 1,080 acres in the Birch Creek Springs area located about 35 miles south of Leadore, Idaho, are closed to OHV use to protect the unique wetland, riparian, and vegetative resources of the area.

“Limited” Designation Areas—Specific restrictions within “limited” designation areas are as follows. (1) OHV travel within the portion of the Eighteenmile WSA recommended to Congress as “non suitable” for wilderness designation (10,126 acres) is limited yearlong to one designated route along the northwestern boundary (the Powderhorn Gulch Road) to allow some motorized access to the WSA while still protecting the WSA's suitability for wilderness designation (exception (b) applies). Temporary exceptions for OHV use off of this route are allowed in emergencies and search and rescue operations, for official purposes by the BLM and other Federal, State, and local agencies, and to build or maintain structures or installations, as provided for in the Interim Management Policy and Guidelines for Lands Under Wilderness Review (BLM 1995). (2) OHV use within the Continental Divide National Scenic Trail Special Recreation Management Area (SRMA) (about 4,600 acres located along the eastern boundary of the Field Office area) is limited to designated routes to reduce conflicts between motorized and non-motorized recreation opportunities within the SRMA and to provide habitat security for wintering big game. The following designated routes may be used yearlong: The portion of the Divide Road beginning about six miles south of Lemhi Pass, the Copper Queen Road, the Cow/Yearian Divide Ridge Road, the two branches of the Reese Creek Road, the Reese/Peterson Divide Ridge Road, the Whiskey Springs Ridge Road east of State Highway 29, and the “spur” road off the Whiskey Springs Ridge Road (exceptions (a), (b), and (c) apply). A northern section of the Divide Road (beginning at the Copper Queen Road intersection and continuing about four miles to the Cow/Yearian hydrologic divide) and two spur roads off the Divide Road may be traveled seasonally, from May 1 through December 15 (exceptions (a), (b), and (d) apply). (3) OHV travel within the Chief Tendoy Cemetery is limited yearlong to the designated route to the monument (no exceptions for off-road travel) to ensure protection of the Cemetery and associated Native American burials. This 40-acre parcel in T19N, R24E, B.M.

Section 28: NE¼ SW¼ was reserved for an Indian Cemetery by a Secretarial decree on October 1, 1907. (4) OHV travel within the Lewis and Clark National Historic Trail SRMA (three areas totaling approximately 31,014 acres) is limited to designated routes to protect the historic trail from ground disturbance and to maintain the natural and historical integrity of the trail area. In the River Bluffs area just north of Salmon, Idaho, OHV use is limited yearlong to the Recreation and Public Purposes Act lease site designated use areas (two areas totaling about 74 acres), the River Bluff Road, the Sagehen Flat Road, the Powerline Road, and the road that heads south from the Powerline Road toward Kirtley Creek (no exceptions for off-road use apply). (Note: The designated use areas within the Recreation and Public Purposes Act lease site are provided to be consistent with the lease stipulations.) OHV travel within the Agency Creek portion of the SRMA is limited to the seasonal and yearlong routes listed in section (9) below (exceptions (a), (b), and (d) apply). OHV travel within the Tower Creek portion of the SRMA is limited to the seasonal and yearlong routes listed in section (10) below (exception (b) applies). (5) OHV travel within the 1,060-acre Sevenmile ACEC, located about seven miles south of Salmon, Idaho, is limited yearlong to two designated routes in the upper portion of the ACEC: The route which accesses the Sunset Heights Water District Spring and the route which accesses the upper portion of the Sevenmile watershed (exceptions (a) and (b) apply). This use limitation is implemented to help ensure public safety and resource protection in areas with steep slopes and highly erosive soils, while allowing motorized access in more stable areas.

(6) OHV use within the following recreation sites and use areas is limited to designated routes and use areas yearlong to ensure visitor safety and reduce conflicts between motorized and non-motorized recreation use (no exceptions for off-road use apply): The Shoup Bridge, Morgan Bar, Williams Lake, Tower Creek, Smokey Cubs, McFarland, and Agency Creek Recreation Sites, as well as several access points along the Salmon River: Eightmile River Access, Elevenmile River Access, Lime Creek Trailhead, and Kilpatrick River Access. (7) OHV use on about 29,599 acres in the Hayden, Basin, and Muddy creek areas west of Lemhi, Idaho, is limited to designated routes in order to address erosion concerns and the potential for sedimentation impacts to occupied threatened/endangered fish habitat (exceptions (a), (b), and (c) apply). The Hayden Creek Road and Basin Creek Road may be used by motorized vehicles yearlong. OHV use on the following designated routes is only allowed from June 16 to February 28: Muddy Creek Road, Colson Cutoff, Roostercomb Mountain Road, and several additional unnamed routes between Basin Creek and Muddy Creek. (8) No vehicle travel is allowed on the following roads constructed for previous timber sales, unless specifically authorized by the BLM: Baldy Basin, Sawmill Canyon, Birch Creek, and McDevitt Creek. These restrictions are implemented to reduce water quality impacts. (9) OHV use on about 25,904 acres in the Kenney, Pattee, and Agency creek drainages (located approximately 15 miles southeast of Salmon, Idaho) is limited to designated routes and/or closed seasonally (exceptions (a), (b), and (d) apply). These limitations are implemented to improve habitat security in big game winter range and to protect cultural and scenic resources in the Lewis and Clark Trail SRMA. Motorized travel is allowed yearlong on the Alkali Flat Road, Warm Springs Wood Road, Agency Creek Road, Divide Road (excepting about four miles beginning at the Copper Queen Road intersection south to the Cow/Yearian hydrologic divide), Copper Queen Road, and about four miles of the Pattee Creek Road. OHV use on several routes in the Agency, Pattee, and Warm Springs Creek drainages is only permitted from May 1 through December 15. The following route is designated for snowmobile use: The Divide Road from Lemhi Pass south to the Copper Queen Road to the Agency Creek Road. Vehicle travel is permitted on existing roads, vehicle ways, and trails from May 1 through December 15 on about 1,260 acres south of Kenney Creek and 2,325 acres south of the SRMA boundary (exceptions (a) and (b) apply); the remainder of the year these areas are closed to OHV use to protect wintering big game. (10) OHV use on about 5,192 acres in the Tower Creek area located about 11 miles north of Salmon, Idaho, is limited to designated routes to protect wildlife habitat and cultural and scenic resources along the Lewis and Clark National Historic Trail (exception (b) applies). Travel is allowed yearlong on the Kriley Gulch Road and Tower Creek Road. From May 1 through December 15, travel is also allowed on the ridge route (from U.S. Highway 93 to a point about 2.9 miles from the highway) and the route that bears west off the ridge route about 1.5 miles from the highway. (11) OHV use on about 7,805 acres in the Badger Springs area (located about seven miles north of Salmon, Idaho) is prohibited from December 16 through April 30 to protect big game winter habitat. The remainder of the year vehicle use is limited to existing roads, vehicle ways, and trails. (12) In the Henry Creek area (approximately 4,046 acres) located about nine miles south-southwest of Salmon, Idaho, OHV use is only allowed on existing roads, vehicle ways, and trails from April 11 through September 19; during this time, motorized access is limited to vehicles 48 inches in width or narrower (exception (b) applies). These limitations are implemented to address safety and erosion concerns. (13) OHV use on all remaining public lands not affected by the above limitations or closures (about 402,385 acres) is limited to the existing roads, vehicle ways, and trails visible on 1993-1994 aerial photos and/or 1992 digital orthophotos, as verified through on-the-ground review (exceptions (a), (b), and (c) apply). Vehicle travel on single-track vehicle ways is limited to two-wheeled vehicles and will not promote expansion of those ways into two-track routes. These limitations are implemented to reduce impacts to cultural resources, visual resources, native vegetation, and fisheries and wildlife habitat.

Dated: February 12, 2003.
Jenifer L. Arnold,
Acting District Manager.

[FR Doc. 03-7163 Filed 3-25-03; 8:45 am]

BILLING CODE 4310-GG-P